DEPARTMENT OF JUSTICE

Drug Enforcement Administration

[Docket No. DEA-847]

Importer of Controlled Substances Application: Cambrex Charles City

AGENCY: Drug Enforcement Administration, Justice.

ACTION: Notice of application.

SUMMARY: Cambrex Charles City has applied to be registered as an importer of basic class(es) of controlled substance(s). Refer to Supplemental Information listed below for further drug information.

DATES: Registered bulk manufacturers of the affected basic class(es), and applicants therefore, may file written comments on or objections to the issuance of the proposed registration on or before July 12, 2021. Such persons may also file a written request for a hearing on the application on or before July 12, 2021.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All request for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on May 6, 2021, Cambrex Charles City, 1205 11th Street, Charles City, Iowa 50616-3466, applied to be registered as an importer of the following basic class(es) of controlled substance(s):

Controlled substance | Drug code | Schedule
4-Anilino-N-Phenethyl-4-Piperidine (ANPP) | 8333 | II
Phenylacetone | 8501 | II
Coca leaves | 9040 | II
Opium, raw | 9600 | II
Poppy Straw Concentrate | 9670 | II

The company plans to import the listed controlled substances for internal use and to bulk manufacture other controlled substances in Active Pharmaceutical Ingredient (API) form for distribution to its customers. No other activity for these drug codes is authorized for this registration.

William T. McDermott,
Assistant Administrator.

[FR Doc. 2021-12215 Filed 6-9-21; 8:45 am]

BILLING CODE 4410-09-P